DEPARTMENT OF ENERGY

Federal Energy Regulatory Commission

Combined Notice of Filings #1

December 30, 2005.

Take notice that the Commission received the following electric rate filings

Docket Numbers: ER01-3001-014.

Applicants: New York Independent System Operator, Inc.

Description: New York Independent Transmission System Operator, Inc submits corrected Ninth Biannual Compliance Report that addresses the Demand Response Programs and the Addition of New Generation.

Filed Date: 12/23/2005.

Accession Number: 20051230-0097.

Comment Date: 5 p.m. Eastern Time on Friday, January 13, 2006.

Docket Numbers: ER03-683-009.

Applicants: California Independent System Operator Corporation.

Description: California ISO submits supplemental Refund Report.

Filed Date: 12/23/2005.

Accession Number: 20051223-5041.

Comment Date: 5 p.m. Eastern Time on Friday, January 13, 2006.

Docket Numbers: ER06-278-001.

Applicants: Nevada Hydro Company, Inc.

Description: Nevada Hydro Co, Inc supplements its 12/1/05 filing of the Talega-Escondido Valley Serrano 500-kV Interconnect Project and the Lake Elsinore Advance Pump Storage Project.

Filed Date: 12/22/2005.

Accession Number: 20051230-0098.

Comment Date: 5 p.m. Eastern Time on Thursday, January 12, 2006.

Docket Numbers: ER06-368-000.

Applicants: MidAmerican Energy Company.

Description: MidAmerican Energy Co submits an agreement governing joint ownership of transmission facilities dated 11/17/05.

Filed Date: 12/23/2005.

Accession Number: 20051227-0248.

Comment Date: 5 p.m. Eastern Time on Friday, January 13, 2006.

Docket Numbers: ER06-376-000.

Applicants: EL Paso Electric Company.

Description: El Paso Electric Co submits a rate schedule under which it intends to continue service to its retail customer, Holloman Air Force Base in Alamogordo, New Mexico.

Filed Date: 12/23/2005.

Accession Number: 20051228-0066.

Comment Date: 5 p.m. Eastern Time on Friday, January 13, 2006.

Docket Numbers: ER06-377-000.

Applicants: PJM Interconnection, L.L.C.

Description: PJM Interconnection, LLC submits an executed Construction Service Agreement with Baileyville Wind Farm, LLC and Commonwealth Edison Company.

Filed Date: 12/23/2005.

Accession Number: 20051228-0260.

Comment Date: 5 p.m. Eastern Time on Friday, January 13, 2006.

Docket Numbers: ER06-378-000.

Applicants: PJM Interconnection, L.L.C.

Description: PJM Interconnection, LLC submits an executed Interconnection Service Agreement with Burlington County and Public Service Electric and Gas Co.

Filed Date: 12/23/2005.

Accession Number: 20051228-0259.

Comment Date: 5 p.m. Eastern Time on Friday, January 13, 2006.

Docket Numbers: ER06-379-000.

Applicants: Commonwealth Edison Company.

Description: Commonwealth Edison Co submits a Letter Agreement with Midwest Generation, LLC amending the Facilities, Interconnection and Easement Agreement for the Collins Generating Station dated 12/15/99.

Filed Date: 12/23/2005.

Accession Number: 20051228-0076.

Comment Date: 5 p.m. Eastern Time on Friday, January 13, 2006.

Docket Numbers: ER06-380-000.

Applicants: Kentucky Utilities Company.

Description: Kentucky Utilities Co submits an amendment to a contract with City of Owensboro, Kentucky.

Filed Date: 12/23/2005.

Accession Number: 20051229-0238.

Comment Date: 5 p.m. Eastern Time on Friday, January 13, 2006.

Docket Numbers: ER06-381-000.

Applicants: Kentucky Utilities Company.

Description: Kentucky Utilities Co submits an amendment to a contract with City of Corbin, Kentucky.

Filed Date: 12/23/2005.

Accession Number: 20051229-0232.

Comment Date: 5 p.m. Eastern Time on Friday, January 13, 2006.

Docket Numbers: ER06-382-000.

Applicants: Kentucky Utilities Company.

Description: Kentucky Utilities Co submits an amendment to a contract with the City of Nicholasville, Kentucky.

Filed Date: 12/23/2005.

Accession Number: 20051229-0236.

Comment Date: 5 p.m. Eastern Time on Friday, January 13, 2006.

Docket Numbers: ER06-383-000.

Applicants: Kentucky Utilities Company.

Description: Kentucky Utilities Co submits an amendment to a contract with City of Providence, Kentucky.

Filed Date: 12/23/2005.

Accession Number: 20051229-0234.

Comment Date: 5 p.m. Eastern Time on Friday, January 13, 2006.

Docket Numbers: ER06-384-000.

Applicants: Montaup Electric Company.

Description: New England Power Co provides a notice of termination of FERC Rate Schedule No. 106 contract between Montaup and Pittsfield Generating Co., LP.

Filed Date: 12/23/2005.

Accession Number: 20051228-0074.

Comment Date: 5 p.m. Eastern Time on Friday, January 13, 2006.

Docket Numbers: ER06-385-000.

Applicants: PJM Interconnection, L.L.C.

Description: PJM Interconnection, LLC submits a notice of cancellation of the agreement for dynamic scheduling transmission service for Wisconsin Electric Power Co.

Filed Date: 12/23/2005.

Accession Number: 20051228-0073.

Comment Date: 5 p.m. Eastern Time on Friday, January 13, 2006.

Docket Numbers: ER06-386-000.

Applicants: Direct Energy Services, LLC.

Description: Direct Energy Services, LLC submits Petition to amend market-based rate schedule & request for certain waiver and blanket approvals.

Filed Date: 12/23/2005.

Accession Number: 20051228-0072.

Comment Date: 5 p.m. Eastern Time on Friday, January 13, 2006.

Docket Numbers: ER06-387-000.

Applicants: Geysers Power Company, LLC.

Description: Geysers Power Co, LLC submits a Notice of Termination of its First Revised Rate Schedule FERC No. 4, the Reliability Must-Run Service Agreement with California Independent System Operator Corp, effective 1/1/06.

Filed Date: 12/23/2005.

Accession Number: 20051228-0071.

Comment Date: 5 p.m. Eastern Time on Friday, January 13, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-56 Filed 1-6-06; 8:45 am]

BILLING CODE 6717-01-P